DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate below, or any other aspect of the ICR.

DATES: Comments on this Information Collection Request must be received no later than September 21, 2015.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Health Center Controlled Networks OMB No. 0915-0360-REVISION

Abstract: The Health Resources and Services Administration (HRSA) has a goal to ensure that all Health Center Program award recipients effectively implement health information technology (health IT) systems that enable all providers to become meaningful users of health IT, including Electronic Health Records (EHRs), and use those systems to increase access to care, improve quality of care, and reduce the cost of care. The Health Center Controlled Networks (HCCNs) program serves as a major component of HRSA's HIT initiative to support this goal. HCCNs provide ongoing support for achieving meaningful use of certified EHRs ¹ and adopting technology-enabled quality improvement strategies, including health information exchange (HIE). HCCNs also support sharing of knowledge, resources, and data to improve Health Center Program award recipients' and look-alikes' (health centers) operations, care provision, and generate efficiencies and economies of scale. As a result, health centers working with HCCNs are better positioned to deliver care in a patient-centered medical home model and participate in value based payment. The HCCN program is authorized by Section 330(e) of the Public Health Service (PHS) Act, as amended (42 U.S.C. 254b).

¹ For the purposes of this funding opportunity announcement, “certified EHR” refers to HIT products certified by the Office of the National Coordinator (ONC) for HIT Authorized Testing and Certification Body. For further information about ONC certified HIT products, see http://onc-chpl.force.com/ehrcert.

Need and Proposed Use of the Information: The annual, non-competing continuation progress reports will describe each HCCNs' progress in achieving key activity goals, such as improving performance measures via data-driven quality improvement activities, enhanced utilization of data exchange, and the efficiency and effectiveness of HCCN services to health centers. Award recipients will also report emerging needs, implementation challenges, lessons learned, best practices, and plans to meet the goals set for the next budget period. HCCNs will update their work plan and submit their annual, non-competing continuation progress report annually.

The information collected from the progress report forms will serve multiple purposes. The information will be used to inform new technical assistance needs and evaluate the performance and outcome of the funding initiative. The progress reports will also enhance HRSA's ability to respond to departmental inquiries regarding the program in a timely and accurate manner. Information will also be used in the preparation of reports to Congress and other external agencies.

In addition to meeting the goal of accountability to Congress, patients, and the general public, information collected from the progress reports are critical for HRSA grantees and individual providers to assess the status of existing EHR systems and health outcomes for patients. The partnership between HRSA, grantees, providers, and patients provides a unique opportunity to ensure that all parties share in the benefits of accurate information, lessons learned, major accomplishments, barriers encountered, and technical assistance to promote improved care and efficiency.

Likely Respondents: Type of respondents expected are existing networks that are currently serving health centers and other safety net entities.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information.

The total annual burden hours estimated for this Information Collection Request are summarized in the table below.

Total Estimated Annualized hours: 1350.

Form name | Number of respondents | Number of responses per respondent | Total responses | Average burden per response (in hours) | Total burden hours
Work Plan Update | 45 | 1 | 45 | 5 | 225
Annual Progress Report | 45 | 1 | 45 | 25 | 1125
Total | 90 |  |  |  | 1350

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2015-17884 Filed 7-21-15; 8:45 am]

BILLING CODE 4165-15-P